DEPARTMENT OF ENERGY

Technical Workshop in Support of DOE 2009 Congestion Study

AGENCY: Office of Electricity Delivery and Energy Reliability, DOE.

ACTION: Notice of Technical Workshop.

SUMMARY: The Department of Energy's (DOE) Office of Electricity Delivery and Energy Reliability (OE) will conduct a Technical Workshop to receive input from subject matter experts on the historical transmission data in the Western and Eastern Interconnections and on studies of future transmission projections within the two Interconnections. The input received will be used by DOE in preparing the 2009 Congestion Study which will be submitted to Congress by August 8, 2009. Specific issues to be addressed at the Technical Workshop include: Region-specific interpretation of congestion data; congestion metrics; and experiences and issues associated with region-wide planning. No fee is required to attend the Technical Workshop; however, pre-registration is requested for meeting planning purposes. Additional information, including a registration link, is available at http://www.congestion09.anl.gov/.

DATES: The technical workshop will be held on March 25, 2009, from 10 a.m. to 5 p.m., and March 26, 2009, from 8 a.m. to 12 noon.

Location: Crowne Plaza Chicago O'Hare Hotel & Conference Center, 5440 North River Road, Rosemont, Illinois, 60018, Phone: 847-671-6350.

FOR FURTHER INFORMATION CONTACT: For technical information contact David Meyer, DOE Office of Electricity Delivery and Energy Reliability, phone: 202-586-1411, or e-mail david.meyer@hq.doe.gov. For logistical information contact Lauren Giles, Energetics Incorporated, phone 410-953-6250, or e-mail lgiles@energetics.com.

SUPPLEMENTARY INFORMATION: The Technical Workshop will consist of five sessions as follows: March 25, Session 1, Historic Congestion in the Western Interconnection; Session 2, Historic Congestion in the Eastern Interconnection; Session 3, Studies of Future Congestion in the Western Interconnection; March 26, Session 4, Studies of Future Congestion in the Eastern Interconnection; and Session 5, Status Report on the 2009 Congestion Study.

Issued in Washington, DC, on February 12, 2009.
Anthony J. Como,
Acting Deputy Assistant Secretary, Permitting, Siting and Analysis Division, Office of Electricity Delivery and Energy Reliability.

[FR Doc. E9-3490 Filed 2-18-09; 8:45 am]

BILLING CODE 6450-01-P